ENVIRONMENTAL PROTECTION AGENCY

[EPA-OAR-2010-1016; FRL-9913-65-OAR]

Proposed Information Collection Request; Comment Request; The National Refrigerant Recycling and Emissions Reduction Program

AGENCY: Environmental Protection Agency (EPA).

ACTION: Notice.

SUMMARY: The Environmental Protection Agency (EPA) is planning to submit an information collection request (ICR) for “The National Refrigerant Recycling and Emissions Reduction Program” (EPA ICR No. 1626.12, OMB Control No. 2060-0256) to the Office of Management and Budget (OMB) for review and approval in accordance with the Paperwork Reduction Act (44 U.S.C. 3501 et seq.). Before doing so, EPA is soliciting public comments on specific aspects of the proposed information collection as described below. This is a proposed extension of the ICR, which is currently approved through November 30, 2014. An Agency may not conduct or sponsor and a person is not required to respond to a collection of information unless it displays a currently valid OMB control number.

DATES: Comments must be submitted on or before September 12, 2014.

ADDRESSES: Submit your comments, referencing Docket ID No. EPA-HQ-OAR-2010-1016 online using www.regulations.gov (our preferred method), by email to a-and-r-docket@epa.gov or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Robert Burchard, Stratospheric Protection Division, Office of Atmospheric Programs (6205J), Environmental Protection Agency, 1200 Pennsylvania Ave. NW., Washington, DC 20460; telephone number (202) 343-9126; fax number: (202) 343-2338; email address: burchard.robert@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: EPA developed regulations under the Clean Air Act Amendments of 1990 (CAA) regarding the use and disposal of class I and class II ozone-depleting substances used as refrigerants during the service, maintenance, repair, or disposal of refrigeration and air-conditioning equipment. Section 608(c) of the CAA states that it is unlawful for any person in the course of maintaining, servicing, repairing, or disposing of refrigeration or air-conditioning equipment to knowingly vent or otherwise knowingly release or dispose of class I or class II substance used as a refrigerant in the equipment in a manner which permits the substance to enter the environment.

In 1993, EPA promulgated regulations under section 608 of the CAA for the recycling of ozone-depleting refrigerants recovered during servicing and disposal of air-conditioning and refrigeration equipment. These regulations were published on May 14, 1993 (58 FR 28660) and codified in 40 CFR part 82, subpart F (§ 82.150 et seq.).

The regulations require persons servicing refrigeration and air-conditioning equipment to observe service practices that reduce emissions of ozone depleting refrigerants. The regulations also establish certification programs for technicians, recycling and recovery equipment, and off-site refrigerant reclaimers. In addition, EPA requires that ozone depleting refrigerants contained “in bulk” in appliances be removed prior to disposal of the appliances, and that all refrigeration and air-conditioning equipment (except for small appliances and room air conditioners) be provided with a servicing aperture that facilitates recovery of the refrigerant. Moreover, the Agency requires that substantial refrigerant leaks in equipment be repaired when discovered. These regulations significantly reduce emissions of ozone depleting refrigerants and therefore aid efforts to minimize damage to the ozone layer.

To facilitate compliance with section 608, EPA requires reporting and record keeping for technicians; technician certification programs; equipment testing organizations; refrigerant wholesalers and purchasers; refrigerant reclaimers; refrigeration and air-conditioning equipment owners; and other establishments that perform refrigerant removal, service, or disposal. The recordkeeping requirements and submission of reports to EPA occur on an annual, biannual, one-time or occasional basis depending on the nature of the reporting entity and the length of time the entity has been in service. Specific reporting and recordkeeping requirements were published in 58 FR 28660 and codified under 40 CFR part 82, subpart F (i.e.,§ 82.166). These reporting and recordkeeping requirements help EPA evaluate the effectiveness of refrigerant regulations and reduce emissions of ozone-depleting substances.

Form Numbers: None

Respondents/affected entities: Entities potentially affected are those that recover, recycle, reclaim, sell or distribute in interstate commerce ozone-depleting refrigerants that contain chlorofluorocarbons (CFCs) or hydrochlorofluorocarbons (HCFCs); those that service, maintain, repair, or dispose of appliances containing CFC or HCFC refrigerants; and those that own or operate appliances containing more than 50 pounds of CFC or HCFC refrigerants.

Respondent's obligation to respond: Mandatory

Estimated number of respondents: 883,680.

Frequency of response: Primarily annually, with the exception of technician testing organizations that are required to report biannually.

Total estimated burden: 320,537

Total estimated cost: $14,202,991

Changes in Estimates: There is a slight increase in the average annual burden hours currently identified in the OMB Inventory of Approved ICR Burdens.

Dated: June 23, 2014.
Drusilla Hufford,
Director, Stratospheric Protection Division.

[FR Doc. 2014-16479 Filed 7-11-14; 8:45 am]

BILLING CODE 6560-50-P